DEPARTMENT OF THE INTERIOR

National Park Service

[2253-665]

Notice of Inventory Completion: U.S. Department of the Interior, Bureau of Land Management, Prineville District, Prineville, OR and University of Oregon Museum of Natural and Cultural History, Eugene, OR

AGENCY: National Park Service, Interior.

ACTION: Notice.

SUMMARY: The Bureau of Land Management, Prineville District has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Bureau of Land Management, Prineville District. Repatriation of the human remains and associated funerary objects to the Indian tribes stated below may occur if no additional claimants come forward.

DATES: Representatives of any Indian tribe that believes it has a cultural affiliation with the human remains and associated funerary objects should contact the Bureau of Land Management, Prineville District at the address below by July 21, 2011.

ADDRESSES: Molly M. Brown, Bureau of Land Management, 3050 NE 3rd St., Prineville, OR 97754, telephone (541) 416-6766.

SUPPLEMENTARY INFORMATION: Notice is here given in accordance with the Native American Graves Protection and Repatriation Act (NAGPRA), 25 U.S.C. 3003, of the completion of an inventory of human remains and associated funerary objects in the control of the U.S. Department of the Interior, Bureau of Land Management, Prineville District, Prineville, OR, and in the possession of the University of Oregon Museum of Natural and Cultural History, Eugene, OR. The human remains and associated funerary objects were removed from Jefferson County, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bureau of Land Management's Prineville District and Museum of Natural and Cultural History professional staff in consultation with representatives of the Burns Paiute Tribe and the Confederated Tribes of the Warm Springs Reservation of Oregon.

History and Description of the Remains

In 1962, human remains representing one individual were removed from site 35JE52, in Jefferson County, OR, during excavations by University of Oregon archeologists. No known individual was identified. The three associated funerary objects consist of fragments of matting.

Based on archeological context, the individual has been determined to be Native American. In April 1961, the site 35JE52, also known as the Peninsula II site, was first recorded by the Klamath County Archaeological Survey. The site is a rockshelter with pictographs and adjacent shell middens located at the base of a cliff on the east bank of the Deschutes River. The age of occupation of the site is unknown. The Museum of Natural and Cultural History reported the remains to the Confederated Tribes of the Warm Springs Reservation in its March 1996 NAGPRA inventory. In 2007, the Bureau of Land Management, Prineville District, in conjunction with Archaeological Resources Protection Act (ARPA) investigations concerning site 35JE52, contacted the museum. At that time, the museum learned that the site is on Federal land, and the NAGPRA notification process was referred to the Bureau of Land Management officials.

Oral traditions and ethnographic reports indicate that site 35JE52 lies within the historic territory of Sahaptin-speaking Tenino or Warm Springs peoples whose descendants are culturally affiliated with the present-day Confederated Tribes of the Warm Springs Reservation of Oregon. The Confederated Tribes of the Warm Springs Reservation is composed of three Wasco bands, four Warm Springs bands, and Northern Paiutes. The Columbia River-based Wasco were the easternmost group of Chinookan-speaking Indians. The Sahaptin-speaking Warm Springs bands lived farther east along the Columbia River and its tributaries. Oral traditions and ethnographic information also indicated that site 35JE52 lies within a region that was occasionally used during historic times by Northern Paiute people whose descendants are culturally affiliated with present-day members of the Burns Paiute Tribe. Ethnographic data indicates that the boundaries between Sahaptin speakers and Northern Paiutes were quite flexible allowing for intertribal exchange. The Burns Paiute Tribe includes Northern Paiutes, who spoke a Uto-Aztecan language and who historically occupied and used the greater southeastern Oregon region.

Determinations Made by the Bureau of Land Management, Prineville District

Officials of the Bureau of Land Management, Prineville District have determined that:

• Pursuant to 25 U.S.C. 3001(9), the human remains described above represent the physical remains of one individual of Native American ancestry.

• Pursuant to 25 U.S.C. 3001(3)(A), the three objects described above are reasonably believed to have been placed with or near the individual human remains at the time of death or later as part of the death rite or ceremony.

• Pursuant to 25 U.S.C. 3001(2), there is a relationship of shared group identity that can be reasonably traced between the Native American human remains and associated funerary objects and the Burns Paiute Tribe and the Confederated Tribes of the Warm Springs Reservation of Oregon.

Additional Requestors and Disposition

Representatives of any other Indian tribe that believes itself to be culturally affiliated with the human remains and associated funerary objects should contact Molly M. Brown, Bureau of Land Management, 3050 NE 3rd St., Prineville, OR 97754, telephone (541) 416-6766, before July 21, 2011. Repatriation of the human remains and associated funerary objects to the Burns Paiute Tribe and Confederated Tribes of the Warm Springs Reservation of Oregon may proceed after that date if no additional claimants come forward.

The Bureau of Land Management, Prineville District is responsible for notifying the Burns Paiute Tribe and the Confederated Tribes of the Warm Springs Reservation of Oregon that this notice has been published.

Dated: June 15, 2011.
Sherry Hutt,
Manager, National NAGPRA Program.

[FR Doc. 2011-15430 Filed 6-20-11; 8:45 am]

BILLING CODE 4312-50-P